DEPARTMENT OF THE INTERIOR

National Park Service

[NPS-WASO-NAGPRA-NPS0032262; PPWOCRADN0-PCU00RP14.R50000]

Notice of Inventory Completion: Illinois State Museum, Springfield, IL

AGENCY: National Park Service, Interior.

ACTION: Notice.

SUMMARY: The Illinois State Museum has completed an inventory of associated funerary objects, in consultation with the appropriate Indian Tribes or Native Hawaiian organizations, and has determined that there is a cultural affiliation between the associated funerary objects and present-day Indian Tribes or Native Hawaiian organizations. Lineal descendants or representatives of any Indian Tribe or Native Hawaiian organization not identified in this notice that wish to request transfer of control of these associated funerary objects should submit a written request to the Illinois State Museum. If no additional requestors come forward, transfer of control of the associated funerary objects to the lineal descendants, Indian Tribes, or Native Hawaiian organizations stated in this notice may proceed.

DATES: Lineal descendants or representatives of any Indian Tribe or Native Hawaiian organization not identified in this notice that wish to request transfer of control of these associated funerary objects should submit a written request with information in support of the request to the Illinois State Museum at the address in this notice by August 18, 2021.

FOR FURTHER INFORMATION CONTACT: Dr. Brooke Morgan, Illinois State Museum Research & Collections Center, 1011 East Ash Street, Springfield, IL 62703, telephone (217) 785-8930, email Brooke.Morgan@illinois.gov.

SUPPLEMENTARY INFORMATION: Notice is here given in accordance with the Native American Graves Protection and Repatriation Act (NAGPRA), 25 U.S.C. 3003, of the completion of an inventory of associated funerary objects under the control of the Illinois State Museum, Springfield, IL. The associated funerary objects were removed from the River L'Abbe Mission site (11MS2), Madison County, IL.

This notice is published as part of the National Park Service's administrative responsibilities under NAGPRA, 25 U.S.C. 3003(d)(3). The determinations in this notice are the sole responsibility of the museum, institution, or Federal agency that has control of the associated funerary objects. The National Park Service is not responsible for the determinations in this notice.

Consultation

A detailed assessment of the associated funerary objects was made by the Illinois State Museum professional staff in consultation with representatives of the Peoria Tribe of Indians of Oklahoma.

History and Description of the Associated Funerary Objects

Between 1969-1972, associated funerary objects were removed from the River L'Abbe Mission site (11MS2), Madison County, IL, during excavations conducted by Melvin L. Fowler and Elizabeth D. Benchley of the University of Wisconsin-Milwaukee, and Charles J. Bareis of the University of Illinois, Urbana-Champaign. The human remains with which these funerary objects are associated, together with additional associated funerary objects, were previously listed in a Notice of Inventory Completion published in the Federal Register (62 FR 48303-48304, September 15, 1997), and were repatriated to the Peoria Tribe of Indians of Oklahoma. Subsequently, during a routine check of Illinois State Museum collections in advance of exhibit preparations, the associated funerary objects listed in this notice were found.

The 274 associated funerary objects derive from five burial features. From burial feature 118 is one lot of soil. From burial feature 119 are one lot of soil, one lot of gravel, one lot of charcoal, one lot of daub, 35 animal bones, 23 pieces of limestone and rough rock, 47 chert flakes, 107 pottery fragments, two galena cubes, one piece of pigment, and one glass sphere. From burial feature 130 are one lot of wood and charcoal, two pieces of chert, two animal bone fragments, five pieces of daub, one pottery fragment, four pieces of iron, and 15 rocks. From burial feature 131 are two shell fragments, one piece of chert, one piece of daub, and 14 pottery fragments. From burial feature 133 are one lot of daub, one lot of burned clay, two lots of rock, and one animal bone.

The River L'Abbe Mission site is located on the first terrace of Monks Mound, a former Mississippian temple mound on the Mississippi River floodplain. River L'Abbe was a French colonial mission consisting of a small chapel and adjoining cemetery that was established in 1735 to quell hostilities between French settlers and the Cahokia Nation. The Cahokia lived nearby and utilized this cemetery until the village's abandonment in 1752 when, facing incursion from other Tribes, many of the Cahokia fled south to the Fort de Chartres area to live with their Michigamea relatives. Based on the site context and historic documents, the associated funerary objects are affiliated with the 1735-1752 Cahokia occupation. The Cahokia were part of the Illinois Confederation of Tribes, which also included the Peoria, Kaskaskia, Michigamea, and Tamaroa. Their present-day descendants are the Peoria Tribe of Indians of Oklahoma.

Determinations Made by the Illinois State Museum

Officials of the Illinois State Museum have determined that:

• Pursuant to 25 U.S.C. 3001(3)(A), the 274 objects described in this notice are reasonably believed to have been placed with or near individual human remains at the time of death or later as part of the death rite or ceremony.

• Pursuant to 25 U.S.C. 3001(2), there is a relationship of shared group identity that can be reasonably traced between the associated funerary objects and the Peoria Tribe of Indians of Oklahoma.

Additional Requestors and Disposition

Lineal descendants or representatives of any Indian Tribe or Native Hawaiian organization not identified in this notice that wish to request transfer of control of these associated funerary objects should submit a written request with information in support of the request to Dr. Brooke Morgan, Illinois State Museum Research & Collections Center, 1011 East Ash Street, Springfield, IL 62703, telephone (217) 785-8930, email Brooke.Morgan@illinois.gov, by August 18, 2021. After that date, if no additional requestors have come forward, transfer of control of the associated funerary objects to the Peoria Tribe of Indians of Oklahoma may proceed.

The Illinois State Museum is responsible for notifying the Peoria Tribe of Indians of Oklahoma that this notice has been published.

Dated: July 7, 2021.
Melanie O'Brien,
Manager, National NAGPRA Program.

[FR Doc. 2021-15251 Filed 7-16-21; 8:45 am]

BILLING CODE 4312-52-P